ENVIRONMENTAL PROTECTION AGENCY

[OPPTS-51983; FRL-6824-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from January 10, 2002, to January 23, 2002, consists of the PMNs pending or expired, and the notices of commencement to manufacture a new chemical that the Agency has received under TSCA section 5 during this time period. The “S” and “G” that precede the chemical names denote whether the chemical idenity is specific or generic.

DATES: Comments identified by the docket control number OPPTS-51983 and the specific PMN number, must be received on or before March 29, 2002.

ADDRESSES: Comments may be submitted by mail, electronically, or in person. Please follow the detailed instructions for each method as provided in Unit I. of the SUPPLEMENTARY INFORMATION. To ensure proper receipt by EPA, it is imperative that you identify docket control number OPPTS-51983 and the specific PMN number in the subject line on the first page of your response.

FOR FURTHER INFORMATION CONTACT: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPTS-51983. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, any test data submitted by the Manufacturer/Importer is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51983 and the specific PMN number in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: oppt.ncic@epa.gov, or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51983 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from Januray 10, 2002, to January 23, 2002, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available. The “S” and “G” that precede the chemical names denote whether the chemical idenity is specific or generic.

In table I, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 49 Premanufacture Notices Received From: 01/10/02 to 01/23/02
Case No. | Received Date | Projected Notice End Date | Manufacturer/Importer | Use | Chemical
P-02-0242 | 01/10/02 | 04/10/02 | Ciba Specialty Chemicals Corporation | (G) Textile dye | (G) Naphthalenesulfonic acid, amino-substituted phenyl amino halo-1,3,5-triazinamino-substituted phenyl azo hydroxy-, sodium salt compound
P-02-0245 | 01/10/02 | 04/10/02 | CBI | (G) Antistatic agent for synthetic fiber | (G) Amino alkyl amide ethyl sulfate
P-02-0246 | 01/10/02 | 04/10/02 | CBI | (G) Binder resin | (G) Acrylic polyol
P-02-0248 | 01/10/02 | 04/10/02 | International Flavors and Fragrances, Inc. | (S) Raw material for use in fragrances for soaps, detergents, cleaners and other household products | (S) 1-hexanol, 3-mercapto, 1-acetate
P-02-0249 | 01/10/02 | 04/10/02 | CBI | (G) Raw material for production of polyols | (S) Fatty acids, C16-18 and C18-unsaturated, me esters, epoxidized
P-02-0250 | 01/10/02 | 04/10/02 | Solutia Inc. | (S) Resin for industrial paints | (G) Acrylic copolymer
P-02-0251 | 01/10/02 | 04/10/02 | Shell Chemical Company | (S) Drilling fluid component fuel | (S) Hexadecane, branched
P-02-0252 | 01/10/02 | 04/10/02 | Shell Chemical Company | (S) Drilling fluid component fuel | (S) Pentadecane, branched
P-02-0253 | 01/11/02 | 04/11/02 | CBI | (G) Polymer raw material | (G) Substituted alkyl acrylate
P-02-0254 | 01/11/02 | 04/11/02 | Arch Chemicals, Inc. | (S) Use as an ingredient in waterborne urethane | (G) Carboxyl polyol triethylamine salt
P-02-0255 | 01/15/02 | 04/15/02 | CBI | (S) Hot-melt moisture-cure adhesives for book binding. (volumes indicated are the maximum for each substance) | (G) Polyester polyether isocyanate
P-02-0256 | 01/15/02 | 04/15/02 | CBI | (S) Hot-melt moisture-cure adhesives for book binding. (volumes indicated are the maximum for each substance) | (G) Polyester polyether isocyanate
P-02-0257 | 01/15/02 | 04/15/02 | CBI | (S) Hot-melt moisture-cure adhesives for book binding. (volumes indicated are the maximum for each substance) | (G) Polyester polyether isocyanate
P-02-0258 | 01/15/02 | 04/15/02 | CBI | (S) Hot-melt moisture-cure adhesives for book binding. (volumes indicated are the maximum for each substance) | (G) Polyester polyether isocyanate
P-02-0259 | 01/15/02 | 04/15/02 | CBI | (S) Hot-melt moisture-cure adhesives for book binding. (volumes indicated are the maximum for each substance) | (G) Polyester isocyanate
P-02-0260 | 01/15/02 | 04/15/02 | CBI | (S) Hot-melt moisture-cure adhesives for book binding. (volumes indicated are the maximum for each substance) | (G) Polyester isocyanate
P-02-0261 | 01/15/02 | 04/15/02 | Clariant LSM (America) Inc. | (S) Silicons product intermediate | (G) Piperidinol
P-02-0262 | 01/15/02 | 04/15/02 | Mississippi Polymer Technologies, Inc. | (G) Destructive use in plastic manufacture | (G) Halogenated benzophenone; substituted benzophenone
P-02-0263 | 01/15/02 | 04/15/02 | Hercules Incorporated | (G) Water soluble cement additive | (G) Acrylate/allylether copolymer
P-02-0264 | 01/16/02 | 04/16/02 | Haarmann & Reimer | (G) Additive in consumer products dispersive use | (S) 3-hexanethiol, 1-methoxy-
P-02-0265 | 01/15/02 | 04/15/02 | Quest International Fragrances Co. | (S) Fragrance raw material | (S) Mixture of: 1,3-dioxane, 5-methyl-2-(2-methylpropyl)-, cis; 1,3-dioxane, 5-methyl-2-(2-methylpropyl)-, trans
P-02-0266 | 01/15/02 | 04/15/02 | Vantico Inc. | (S) Epoxy curing agent | (G) Phenol, 4,4′-(1-methylethylidene)bis, polymer with (chloromethyl)oxirane, reaction products with an epoxy resin and octahydro-4,7-methano-1h-indenedimethanamine
P-02-0267 | 01/16/02 | 04/16/02 | Hercules Incorporated | (G) Water soluble cement additive | (G) Acrylate/allylether copolymer
P-02-0268 | 01/16/02 | 04/16/02 | Solutia Inc. | (S) Cross linking resin for industrial paints | (G) Acrylic copolymer
P-02-0269 | 01/17/02 | 04/17/02 | Jarchem Industries, Inc. | (G) Thermo-sensitive water-absorbing/desorbing polymer to soil water-holding agent | (G) Thermo-sensitive water-absorbing desorbing polymer (acrylic polymer)
P-02-0270 | 01/22/02 | 04/22/02 | Solutia Inc. | (S) Dispersant for industrial coatings | (G) Acrylic copolymer
P-02-0271 | 01/18/02 | 04/18/02 | CBI | (S) Viscosity modifier/dispersing agent for pigments in inks and coatings | (G) Vinylpyrrolidinone-vinylimidazole-copolymer
P-02-0272 | 01/22/02 | 04/22/02 | Seppic, Inc. | (S) Solubilizer for industrial and institutional cleaning formulations | (S) D-glucopyranose, oligomeric, bu glycosides
P-02-0273 | 01/22/02 | 04/22/02 | Seppic, Inc. | (S) Foaming detergent for institutional and industrial cleaning formulations | (S) D-glucopyranose, oligomeric, C10-12-alkyl glycosides
P-02-0274 | 01/22/02 | 04/22/02 | Seppic, Inc. | (S) Industrial and institutional drain cleaning | (S) D-glucopyranose, oligomeric, C12-16-alkyl glycosides
P-02-0275 | 01/18/02 | 04/18/02 | Solutia Inc. | (S) Cross linking resin for industrial paints | (G) Acrylic copolymer
P-02-0276 | 01/18/02 | 04/18/02 | Eastman Chemical Company | (G) Coating and paint vehicle | (G) Styrene-acrylic copolymer
P-02-0277 | 01/22/02 | 04/22/02 | CBI | (S) Inks; coatings | (G) Polyester acrylate
P-02-0278 | 01/18/02 | 04/18/02 | Burlington Chemical Company, Inc. | (S) Improve leaf retention in alfalfa hay | (S) Fatty acids, C16-18 and C18-unsaturated, branched and linear, esters with polyethylene glycol
P-02-0279 | 01/22/02 | 04/22/02 | Solutia Inc. | (S) Curing resin for industrial coatings | (G) Phenolic resin
P-02-0280 | 01/18/02 | 04/18/02 | CBI | (G) Chemical intermediate | (G) Dialkylphenoxyalkyl carboxylate, metal salt
P-02-0281 | 01/22/02 | 04/22/02 | Basf Corporation | (S) Processing aid for leather tanning | (G) Diglyceride fatty acid, acetylated
P-02-0282 | 01/22/02 | 04/22/02 | CBI | (G) Curing agent | (G) Amino silane ester
P-02-0283 | 01/22/02 | 04/22/02 | Seppic, Inc. | (S) Wetting agent (component) for use in water-based drilling muds; solubilizer for industrial and institutional cleaners | (S) D-glucopyranose, homopolymer, 2-ethylhexyl glycosides
P-02-0284 | 01/22/02 | 04/22/02 | Seppic, Inc. | (S) Foaming and wetting surfactant for institutional and industrial cleaning; oil well borehole emulsifier and cleaner | (S) D-glucopyranose, oligomeric, branched undecyl glycosides
P-02-0285 | 01/23/02 | 04/23/02 | R. T. Vanderbilt Company, Inc. | (S) Functional filler for polymer systems | (S) Silane, trimethoxy[3-oriranylmethoxy]propyl-, reaction products with wollastonite (ca(sio3)
P-02-0286 | 01/23/02 | 04/23/02 | Ciba Specialty Chemicals Corporation, Textile Effects | (G) Textile dye | (G) Naphthalenedisulfonic acid, amino halo alkyl sulfonyl alkyl amino-1,3,5-triazin sulfophenyl azo hydroxy substituted phenyl azo sodium salt
P-02-0287 | 01/23/02 | 04/23/02 | Basf Corporation | (S) Processing aid for leather tanning | (G) Ethoylated alkyl alcohol
P-02-0288 | 01/23/02 | 04/23/02 | CBI | (G) Dehydration and demulsification agent | (G) Alkoxylated fatty acid esters
P-02-0289 | 01/23/02 | 04/23/02 | UBE America Inc. | (S) Raw material of polyurethane | (S) Carbonic acid, dimethyl ester, polymer with 1,4-cyclohexanedimethanol and 1,6-hexanediol
P-02-0293 | 01/23/02 | 04/23/02 | CBI | (G) Open, non-dispersive use. | (G) Acrylic polymer
P-02-0294 | 01/23/02 | 04/23/02 | 3D Systems, Inc. | (G) Printing ink stabilizer | (G) Urethane wax
P-02-0295 | 01/23/02 | 04/23/02 | 3D Systems, Inc. | (G) Printing ink stabilizer | (G) Urethane wax
P-02-0296 | 01/23/02 | 04/23/02 | 3D Systems, Inc. | (G) Printing ink stabilizer | (G) Urethane wax

In table II, EPA provides the following information (to the extent that such information is not claimed as CBI) on the Notices of Commencement to manufacture received:

II. 31 Notices of Commencement From: 01/10/02 to 01/23/02
Case No. | Received Date | Commencement/Import Date | Chemical
P-00-1057 | 01/16/02 | 11/12/01 | (G) Azo dye, copper complex
P-00-1151 | 01/15/02 | 10/29/01 | (G) Poly(ester-ether)
P-00-1213 | 01/10/02 | 10/16/01 | (G) Polyester isocyanate prepolymer
P-01-0077 | 01/17/02 | 11/02/01 | (G) Disubstituted benzenedicarboxylic acid
P-01-0346 | 01/18/02 | 11/28/01 | (G) Acrylic polymer
P-01-0350 | 01/16/02 | 10/26/01 | (G) Polydialkylsiloxane with polyglucoside containing groups
P-01-0383 | 01/17/02 | 11/04/01 | (S) 1,2-benzenedicarboxylic acid, di-C6-14-branched and linear alkyl esters
P-01-0407 | 01/10/02 | 10/05/01 | (G) Polydimethylsiloxane with aminoalkyl and polyether groups
P-01-0472 | 01/17/02 | 12/03/01 | (G) Modified polymeric diphenylmethane diisocyanate prepolymer
P-01-0646 | 01/17/02 | 11/30/01 | (G) Substituted trialkylalkanaminium halide
P-01-0695 | 01/17/02 | 12/10/01 | (G) Acrylic polymer
P-01-0733 | 01/15/02 | 11/05/01 | (G) Alkyl carboxylate salt
P-01-0745 | 01/16/02 | 11/16/01 | (G) Methacrylate polymer
P-01-0751 | 01/15/02 | 11/28/01 | (G) Supported metallocene catalyst
P-01-0783 | 01/18/02 | 12/12/01 | (G) Aminophosphonate
P-01-0785 | 01/15/02 | 11/05/01 | (G) Alkyldioic acid polymer with carboxy-alkyl-carbocycle-alkanoic acid, alkenedioic anhydride, and 3-oxapentane-1,5-diol
P-01-0787 | 01/14/02 | 12/19/01 | (G) Modified tall-oil pitch intermediate
P-01-0788 | 01/14/02 | 12/20/01 | (G) Modified tall-oil pitch intermediate
P-01-0789 | 01/14/02 | 12/20/01 | (G) Modified tall-oil pitch
P-01-0805 | 01/14/02 | 11/12/01 | (G) Alkylamine, alkoxylated
P-01-0806 | 01/14/02 | 11/16/01 | (G) Alkylamine initiated, alkylene oxide polymer
P-01-0848 | 01/22/02 | 01/21/02 | (G) Hydroxy functional acrylic emulsion
P-01-0849 | 01/22/02 | 01/21/02 | (G) Hydroxy functional acrylic emulsion
P-01-0850 | 01/22/02 | 01/21/02 | (G) Hydroxy functional acrylic emulsion
P-01-0851 | 01/22/02 | 01/21/02 | (G) Hydroxy functional acrylic emulsion
P-01-0852 | 01/22/02 | 01/21/02 | (G) Hydroxy functional acrylic emulsion
P-01-0853 | 01/22/02 | 01/21/02 | (G) Hydroxy functional acrylic emulsion
P-01-0874 | 01/18/02 | 12/20/01 | (G) Urethane polymer
P-01-0875 | 01/18/02 | 12/20/01 | (G) Urethane polymer salt
P-97-0064 | 01/10/02 | 11/28/01 | (S) Nitriles, rosin
P-98-1223 | 01/17/02 | 12/29/01 | (S) 1,3-benzenedicarboxylic acid, polymer with alpha, alpha′-[(methylethylidene)di-4,1-phenylene]bis[omega-hydroxypoly[oxy(methyl-1,2-ethanediyl)] and 2,2′-oxybis[ethanol]

List of Subjects

Environmental protection, Chemicals, Premanufacturer notices.

Dated: February 5, 2002.
Carolyn Thornton,
Acting Director, Information Management Division, Office of Pollution Prevention and Toxics.

[FR Doc. 02-4307 Filed 2-26-02; 8:45 am]

BILLING CODE 6560-50-S